DEPARTMENT OF THE INTERIOR

National Park Service

36 CFR Part 7

RIN 1024-AD15

Rocky Mountain National Park Snowmobile Routes

AGENCY: National Park Service, Interior.

ACTION: Final rule.

SUMMARY: The National Park Service (NPS) is amending regulations specific to Rocky Mountain National Park that designate snowmobile routes inside the park. The routes currently designated are inconsistent with the protection of the resources and values of this park, management objectives, the requirements of two Executive orders, and NPS general regulations that govern snowmobile use in the National Park System. This amendment would eliminate three of the four routes currently designated for snowmobile use and for the remaining route ensure compliance with the general regulations.

DATES: This rule becomes effective October 4, 2004.

FOR FURTHER INFORMATION CONTACT: Technical information: Larry Gamble, Chief, Branch of Planning and Compliance, Rocky Mountain National Park, 1000 Highway 36, Estes Park, CO 80517. Telephone: (970) 586-1320. E-mail: Larry_Gamble@nps.gov.

Other information: Bernard C. Fagan, Acting Regulations Program Manager, National Park Service, 1849 C Street, NW., Mail Stop 7252, Washington, DC 20240. Telephone: (202) 208-7456. E-mail: Chick_Fagan@nps.gov.

SUPPLEMENTARY INFORMATION The NPS published a Proposed Rule in the Federal Register on January 5, 2001 (66 FR 1069). Background information on the Proposed Rule can be found in that Federal Register notice. The Proposed Rule was available for public review through March 6, 2001.

In addition to the Federal Register notice, the NPS released an Environmental Assessment (EA) for the Management of Snowmobiles in Rocky Mountain National Park for public review and comment. The EA was released December 15, 2000, and was available for public review and comment for a period of eighty-four days, which ended March 6, 2001. Four alternatives were included in the EA:

(1) Preferred Alternative—Trail Ridge Road, the Summerland Park Snowmobile Trail, and Bowen Gulch Access Trail would be permanently closed to snowmobiles. The North Supply Access Trail would remain open.

(2) No Action Alternative—The North Supply Access Trail and Trail Ridge Road would remain open to snowmobile use.

(3) Less Restrictive Alternative—The North Supply Access Trail and Trail Ridge Road would remain open to snowmobiles. The Summerland Park Snowmobile Trail and Bowen Gulch Access Trail would be reopened to snowmobile use.

(4) Most Restrictive Alternative—The park would be closed to all snowmobiles.

The NPS received 3,363 responses to the EA in the form of letters, a petition, facsimiles and e-mail. After a careful review of public comments and resource, economic and visitor impacts, the Preferred Alternative (Alternative 1) was selected for implementation and a Finding of No Significant Impact (FONSI) was signed February 20, 2003, by the Director of the Intermountain Region of the National Park Service.

Final Rule

The Proposed Rule called for the repeal of the designation of all snowmobile routes in Rocky Mountain National Park except the North Supply Access Trail. The Preferred Alternative in the EA is identical to the Proposed Rule and is therefore consistent with the signed FONSI. After a careful review of public comments and resource, economic and visitor impacts, the Final Rule remains unchanged from the Proposed Rule. The park will close three routes to snowmobile use:

• Trail Ridge Road

• Summerland Park Snowmobile Trail

• Bowen Gulch Access Trail

The North Supply Access Trail will remain open for snowmobile use.

Analysis of Public Comments

A period of sixty days was provided for public comments on the rule change, from January 5, 2000, through March 6, 2001. We received 3,453 responses in the form of letters, a petition, facsimiles, and via e-mail. Many of the responses to the Proposed Rule identified the same issues that were raised during the public comment period for the EA. A few responses raised new issues. Following is a summary of the comments we received and our responses to them.

1. We support the NPS phase-out of snowmobiles in Rocky Mountain National Park. The park should work with adjacent landowners and Forest Service officials to provide alternative access to lands west of the park that does not include a route within the boundaries of the park.

NPS Response:

We are aware that there has been an effort to find an alternative route, but to date nothing has been resolved. The NPS will continue to support and provide input for any future discussions. If we were to close the park now to snowmobiles, there is no guarantee that an alternative trail would be quickly established. In the interim, there would be significant economic impacts to Grand Lake. The Arapaho National Forest, particularly in the Idleglen parking area, would experience a significant increase in snowmobile use and potentially significant adverse impacts to natural resources and visitor safety if the park were closed to snowmobiles. We chose to leave the North Supply Access Trail open because it has the least impact to the “human environment,” which includes the town of Grand Lake, local businesses, nearby private landowners and the Arapaho National Forest. NPS policy requires that impacts be evaluated irrespective of land ownership. In other words, the analysis of potential impacts did not stop at the park boundary, but included the surrounding area.

2. Rocky Mountain National Park has negated the purpose of the environmental assessment, which is to evaluate and accept comments before a rule change is selected.

NPS Response:

The “Snowmobile Management Plan and Environmental Assessment” was approved on February 20, 2003, by the signing of the FONSI. The FONSI was signed before the rule change was finalized.

3. The NPS has no reason to now (January 5, 2001) consider the rulemaking, as it cannot go into effect until the winter of 2002-2003, and should withdraw these proposed rules and propose them, if at all, at a later time closer to the winter of 2002-2003.

NPS Response:

There are many time-consuming steps involved in rulemaking, and the process must begin long before a rule is scheduled to take effect. Given the dates contained in the comment, it is clear that the NPS has not rushed the rulemaking process. We anticipate that the Final Rule will be in place prior to the 2004-2005 snowmobile season.

4. We oppose any regulation that would prohibit supervised snowmobile or ORV use by unlicensed minors.

NPS Response:

Visitors operating snowmobiles in Rocky Mountain National Park must abide by the following Colorado Statutes:

• Colorado Revised Statute 33-14-109 (1) states minors under 10 years of age can operate a snowmobile if they are supervised by an adult, with the adult either being on the snowmobile with the minor, in sight of the minor, or on family land.

• Colorado Statute 33-14-109 (2) states minors under the age of 16 and older than 10, must be supervised by an adult or have in their possession a snowmobile safety certificate. Note: This does not apply to family land.

• Adults do not need to be licensed to operate a snowmobile.

ORVs (all terrain vehicles) are not allowed on roads or trails in Rocky Mountain National Park.

5. It is my understanding that the reason for the rule change is because snowmobiles do not conform to the NPS's rules and regulations. Where, exactly, do the rules and regulations say that?

NPS Response:

Section 2.18 of Title 36 of the Code of Federal Regulations (CFR), promulgated in 1983, states that snowmobiles are prohibited except when their use is consistent with a park's natural, cultural, scenic and aesthetic values, safety considerations, and park management objectives and will not disturb wildlife or damage park resources. That regulation was adopted in response to similar wording in Executive Order 11644, which was promulgated in 1972 and amended in 1977 by Executive Order 11989. On April 26, 2000, the NPS was directed to take a fresh look at snowmobile use and determine whether that use is consistent with the Service-wide regulation. In response, Rocky Mountain National Park prepared an Environmental Assessment (EA) for the Management of Snowmobiles and proposed a rule change to close three designated snowmobile routes while leaving the North Supply Access Trail open to snowmobiles. Based on the analysis that was conducted for the EA, it was determined that three of the currently designated snowmobile routes are inconsistent with (1) the protection of park resources and values; (2) park management objectives; (3) the requirements of Executive Order 11644, as amended by Executive Order 11989; and (4) the NPS general regulation that governs snowmobile use in the National Park System.

The decision to implement the rule change is based on the selection of the alternative that minimizes impacts to natural resources within Rocky Mountain National Park and the Arapaho National Forest, while minimizing the economic impacts to Grand Lake. The preferred alternative has short and long-term beneficial effects on park natural resources and on park visitors who do not snowmobile, and is consistent with the enabling legislation for the park and with the park's Final Master Plan.

This decision is also consistent with the February 17, 2004, memorandum on snowmobile use in the National Park System by the Assistant Secretary for Fish and Wildlife and Parks. That memorandum, which superseded the April 2000 memorandum, states that each park presents a unique set of environmental conditions and uses and should undertake its own individual analysis and rulemaking as to snowmobile management.

6. The NPS explained only in the most cursory manner its rationale for proposing to close three trails in Rocky Mountain National Park, relying on an inadequate and skewed analysis in the EA. The proposed rule lacks a sound scientific or informational basis.

NPS Response:

The EA evaluated four alternatives and examined the potential impacts of each alternative on soils, vegetation, natural sounds, aquatic environments, threatened and endangered species, and several other natural resource topics. The EA also examined potential impacts of the four alternatives on socioeconomic resources and visitors. We used the best available information and the knowledge of NPS natural resource managers and subject matter experts to develop the EA. We believe the EA provides adequate information on which to make well-reasoned management decisions.

7. Should not the NPS protect the parks, yet allow equal rights and access to the beauty of the Parks?

NPS Response:

Rocky Mountain National Park was established by an act of Congress in 1915. The enabling legislation states:

[S]aid area is dedicated and set apart as a public park for the benefit and enjoyment of the people of the United States * * * with regulations being primarily aimed at the freest use of the said park for recreational purposes by the public and for the preservation of the natural conditions and scenic beauties thereof. (38 Stat. 798)

Park managers must balance access to and use of national parks with the requirement to protect park resources and values. With the closure of Trail Ridge Road to snowmobile use, visitors are not denied access to Rocky Mountain National Park. Automobiles are permitted to drive on Trail Ridge Road in the winter to the Timber Lake trailhead (10 miles inside the park), and the North Supply Access Trail will remain open to snowmobile use.

8. Existing regulations should be repealed and replaced with regulations that prohibit any and all use of snowmobiles in national park units. The only exceptions should be for subsistence use by indigenous people in Alaska, administrative and law enforcement activities of park personnel, access to private in-holdings, and essential services (i.e. search and rescues) at park facilities.

NPS Response:

In the Assistant Secretary's memo of February 17, 2004, he found that a nationwide rulemaking to ban snowmobile use in national park units was not warranted at this time. Because of the unique circumstances at each park unit, park units are better served through individual analysis and rulemaking as to snowmobile management. Prohibiting snowmobile use in Rocky Mountain National Park would result in significant economic impacts to the Town of Grand Lake, and would result in potentially significant environmental impacts within the Arapaho National Forest. In arriving at the decision to retain snowmobile use on the two-mile North Supply Access Trail, the NPS gave careful consideration to off-site environmental and economic impacts. The NPS also determined that snowmobile use on the North Supply Access Trail would not result in significant environmental impacts within the park.

The Grand County Commissioners, the Town of Grand Lake Trustees, and the Arapaho National Forest are not opposed to the park's rulemaking changes. This demonstrates a spirit of cooperation between Rocky Mountain National Park, the gateway community of Grand Lake, and the Arapaho National Forest.

9. The NPS should consider identifying motorized and non-motorized days and charging appropriate fees under the Fee Demonstration Program to fund monitoring and enforcement costs.

NPS Response:

Limiting certain uses to specific days of the week would likely create hardships for visitors who have traveled from a considerable distance and have only a limited time to enjoy snowmobiling on the trails of Arapaho National Forest. Allowing snowmobile use on the North Supply Access Trail throughout the winter will provide access to over 100 miles of snowmobile trails on the Arapaho National Forest. We believe this approach better fulfills our mandate to provide for “the freest use of the park for recreational purposes by the public and for the preservation of the natural conditions and scenic beauties thereof” (38 Stat. 798), while also protecting the experience of other park visitors who may choose to access the park using another form of transportation.

10. The NPS should conduct a better cost analysis that takes into account all of the park's constituents, not just the non-motorized users.

NPS Response:

Research Triangle Institute (RTI) conducted an economic impact study during the fall of 2000, prior to the release of the EA. The results of the analysis were included in the EA and in the FONSI. The economic analysis focused on snowmobile rental companies and businesses in Grand Lake that cater to snowmobile users. The economic analysis was updated in February 2004, prior to publishing the Final Rule. We believe the analysis fully considered the economic impact of closing Trail Ridge Road to snowmobile use and was not biased in favor of non-motorized users. The economic impact analysis provided important information that contributed to the decision to leave the North Supply Access Trail open for snowmobile use.

11. The NPS should experiment with ways of reducing conflicts between users instead of simply claiming one set of users is superior to another set.

NPS Response:

The management decision to limit snowmobile use to the North Supply Access Trail was not based on the superiority of one user group over another. The decision was based on knowledge of park natural resources and important park values (such as tranquility) that can be negatively impacted by snowmobile use in the interior of the park. Conflict between users is evidenced by the fact that there have been several accidents involving snowmobiles and automobiles on Trail Ridge Road over the years. The potential for snowmobile/automobile conflicts on the North Supply Access Trail is minimal because no automobiles are allowed on the south half of the trail, and the north half of the trail parallels County Road 491 instead of using the travel lanes.

Compliance With Other Laws

Regulatory Planning and Review (Executive Order 12866)

In accordance with the criteria in Executive Order 12866, this rule has been reviewed by OMB and found to be a significant regulatory action. OMB has made this determination under Executive Order 12866 because the rule may raise novel legal or policy issues.

(1) This rule will not have an effect of $100 million or more on the economy. It will not adversely affect in a material way the economy, productivity, competition, jobs, the environment, public health or safety, or State, local or tribal governments or communities. Nonetheless, the NPS has prepared a draft study on the economic effects of this proposal on, among others, small businesses (“Economic Analysis of Management Alternatives for Snowmobile Use in Rocky Mountain National Park,” RTI International, Research Triangle Park, NC, February 2004).

This report indicates that the proposed regulation is expected to lead to a reduction in the number of visitor days spent by snowmobilers in Rocky Mountain National Park in the winter, as they would no longer be able to use Trail Ridge Road. There may or may not be a reduction in visitation to the gateway community of Grand Lake, Colorado, depending on (1) how many people who used to snowmobile on Trail Ridge Road will continue to come to the area to snowmobile on other routes, and (2) whether there is an increase in other winter visitors to the park who will have a more enjoyable winter experience there without snowmobile use on Trail Ridge Road.

Examining a likely range of possible reductions in winter visitation to Grand Lake, the report indicates that the total impact on regional output in the first year after implementation of the Final Rule could range from an annual decrease of $165,600 to $496,900.

Interested persons may obtain a copy economic analysis by one of several ways:

—Internet: http://www.nps.gov/romo/planning/planningdocs.html.

—By mail: Bruce Peacock, National Park Service, 1201 Oakridge Drive, Suite 200 Fort Collins, CO 80525

—By e-mail: Bruce_Peacock@nps.gov.

Public comments regarding the economic report may be submitted to Bruce Peacock at one of the addresses above.

(2) This rule will not create a serious inconsistency or otherwise interfere with an action taken or planned by another agency. This rule deals specifically with Rocky Mountain National Park, which is administered solely by the NPS, and any rules regarding snowmobile use there would affect only the NPS and not other agencies.

(3) This rule does not alter the budgetary effects or entitlements, grants, user fees, or loan programs or the rights or obligations of their recipients. There are no budgetary constraints or funding issues associated with this rulemaking. This rule pertains only to the recreational uses of areas within the park.

(4) This rule may raise novel legal or policy issues. The general matter of snowmobile restrictions in any area of the National Park System raises concerns among some segments of the public, and those concerns are important to NPS managers. This rule affects only a small portion of the total snowmobile use within the National Park System. Generally, the effect of this rulemaking will be a small percentage of change in use patterns within the park. Historically, the North Supply Access Trail has received eighty-five percent (85%) of all snowmobile use within the park; the NPS is proposing to keep this trail open. Historically, Trail Ridge Road has received fifteen percent (15%) of all snowmobile use within the park; the NPS is proposing to close this route to snowmobiles.

Regulatory Flexibility Act

The Department of the Interior certifies that this regulation will not have a significant economic effect on a substantial number of small entities under the Regulatory Flexibility Act (5 U.S.C. 601 et seq.). Nonetheless, the NPS has prepared a report of the economic effects of this regulation on, among others, small entities (“Economic Analysis of Management Alternatives for Snowmobile Use in Rocky Mountain National Park,” RTI International, Research Triangle Park, NC, February 2004). Small entities potentially affected will be all five snowmobile rental shops in the Grand Lake area, and all governmental jurisdictions in the area.

For snowmobile rental shops, the Final Rule could lead to a loss of revenue ranging from $121,100 to $363,400 in the first year after implementation. However, there appears to be excess demand for snowmobile rentals in Grand Lake, with the rental businesses typically renting all available machines on weekends, weather permitting, and during holiday weeks. This means that the effects on the rental shops could be less than the ranges estimated.

The town of Grand Lake does not collect a sales and use tax on snowmobile rentals. The range in reductions in winter visitation examined in the study would lead to a decline in the state and local tax receipts ranging between $5,960 and $17,870.

The analysis of small entities cited above identifies only five rental shops that would potentially incur impacts in the range of 3 to 9 percent of total revenue. The NPS does not consider this number of businesses to constitute a substantial number of small entities. Further, due to the excess demand for snowmobile rentals cited above, the actual impacts on these businesses could be lower than indicated. Therefore, the NPS does not believe that this regulation will impose a significant economic impact on a substantial number of small entities.

Small Business Regulatory Enforcement Fairness Act (SBREFA)

This rule is not a major rule under 5 U.S.C. 804(2), the Small Business Regulatory Enforcement Fairness Act. This rule:

a. Does not have an annual effect on the economy of $100 million or more. This rule has been estimated to have a potential impact on small businesses (five rental shops) from approximately $121,100 to $363,400 during the first year after implementation.

b. Will not cause a major increase in costs or prices for consumers, individual industries, Federal, State, or local government agencies, or geographic regions. There are not likely to be cost increases associated with this rulemaking. The potential economic effect would be a minimal loss of revenue to small businesses and tax revenue to local governments.

c. Does not have significant adverse effects on competition, employment, investment, productivity, innovation, or the ability of U.S-based enterprises to compete with foreign-based enterprises. This rule pertains only to recreational uses within a park unit, has no effect on methods of manufacturing or production, and specifically affects only the Northern Colorado region, not national or U.S.-based enterprises.

Unfunded Mandates Reform Act

In accordance with the unfounded Mandates Reform Act (2 U.S.C. 1501 et seq.):

a. This rule will not “significantly or uniquely” affect small governments. A Small Government Agency Plan is not required.

b. This rule does not impose an unfunded mandate on State, local, or tribal governments or the private sector of more than $100 million per year (nor does it impose any other mandates).

This rule imposes regulatory requirements only on those visitors that choose to operate a snowmobile within Rocky Mountain National Park, and it does not require any additional expenditures of money by them. The potential impact to state and local government could be loss of tax revenue estimated between $5,960 and $17,870 during the first year after implementation of the rule.

Takings (Executive Order 12630)

In accordance with Executive Order 12630, the rule does not have significant takings implications. Private property within or adjacent to Rocky Mountain National Park will still be afforded the same access during winter as before this rule. No other property is affected.

Federalism (Executive Order 13132)

In accordance with Executive Order 13132, the rule does not have sufficient federalism implications to warrant the preparation of a Federalism Assessment. It addresses public use of national park lands, and imposes no requirements on other agencies or governments.

Civil Justice Reform (Executive Order 12988)

In accordance with Executive Order 12988, the Office of the Solicitor has determined that this rule does not unduly burden the judicial system and meets the requirements of sections 3(a) and 3(b)(2) of the Order.

Paperwork Reduction Act

This regulation does not require an information collection from 10 or more parties and a submission under the Paperwork Reduction Act is not required. An OMB form 83-I is not required.

National Environmental Policy Act

This rule does not constitute a major federal action significantly affecting the quality of the human environment. An EA for the management of snowmobiles in Rocky Mountain National Park was completed in 2000. The EA evaluated several alternatives for the management of snowmobiles and was distributed for public review and comment. The park received over 3,000 comments. In February 2003, the Director of the Intermountain Region of the NPS signed a Finding of No Significant Impact (FONSI) selecting the Preferred Alternative as described in the Management Plan. The Final Rule is necessary to implement the Preferred Alternative, which is to close all snowmobile routes in Rocky Mountain National Park except the North Supply Access Trail.

Copies of the EA and FONSI may be obtained through one of several methods.

—By Internet: http://www.nps.gov/romo/planning/planningdocs.html.

—By e-mail: romo_superintendent@nps.gov.

—By mail: Superintendent, Rocky Mountain National Park, 1000 U.S. Highway 36, Estes Park, Colorado 80517.

Government to Government Relationship With Tribes

In accordance with Executive Order 13175, “Consultation and Coordination with Indian Tribal Governments” (65 FR 67249), the President's memorandum of April 29, 1994, “Government to Government relations with Native American Tribal Governments” (59 FR 22951), and Part 512 Section 2 of the Department of the Interior Manual, the NPS has evaluated potential effects on federally recognized Indian tribes and has determined that there are no potential effects.

Drafting Information

The principal contributors to this rule have been Craig Manson, Assistant Secretary of the Interior for Fish and Wildlife and Parks; Kym A. Hall, NPS Regulations Program Manager; A. Durand Jones, Deputy Director of the NPS; Larry Gamble, Chief of the Branch of Planning and Compliance, Rocky Mountain National Park; and Jeff Connor, Natural Resources Specialist, Rocky Mountain National Park.

List of Subjects in 36 CFR Part 7

District of Columbia, National parks, Reporting and recordkeeping requirements.

The Final Rule

For the reasons stated in the preamble, we amend the Special Regulations, Areas of the National Park System (36 CFR Part 7) as set forth below:

PART 7—SPECIAL REGULATIONS; AREAS OF THE NATIONAL PARK SYSTEM

1. The authority for Part 7 continues to read as follows:

Authority: 16 U.S.C. 1, 3, 9a, 460(q), 462(k); Sec. 7.96 also issued under D.C. Code 8-137 (1981) and D.C. Code 40-721 (1981).

2. Section 7.7 is amended by revising paragraphs (e)(1) and (2) and removing paragraphs (e)(3) through (6).

§ 7.7 Rocky Mountain National Park

* * * * *

(e)(1) On what route may I operate a snowmobile? Snowmobiles may be operated on the North Supply Access Trail solely for the purpose of gaining access between national forest lands on the west side of the park and the town of Grand Lake. Use of this trail for other purposes is not permitted. This trail will be marked by signs, snow poles or other appropriate means.

(e)(2) When may I operate a snowmobile on the North Supply Access Trail? The Superintendent will determine the opening and closing dates for use of the North Supply Access Trail each year, taking into consideration the location of wintering wildlife, appropriate snow cover, and other factors that may relate to public safety. The Superintendent will notify the public of such dates through one or more of the methods listed in § 1.7(a) of this chapter. Temporary closure of this route will be initiated through the posting of appropriate signs and/or barriers.

Dated: June 17, 2004.
Paul Hoffman,
Deputy Assistant Secretary for Fish and Wildlife and Parks.

[FR Doc. 04-20024 Filed 9-1-04; 8:45 am]

BILLING CODE 4312-52-P